DEPARTMENT OF THE TREASURY

Bureau of Alcohol, Tobacco and Firearms

27 CFR Part 4

[T.D. ATF—481; Ref. Notice No. 934]

RIN 1512—AC50

Addition of Tannat as a Grape Variety Name for American Wines (2001R-207P)

AGENCY: Bureau of Alcohol, Tobacco and Firearms, Treasury.

ACTION: Treasury decision, final rule.

SUMMARY: The Bureau of Alcohol, Tobacco, and Firearms (ATF) is adding the name “Tannat” to the list of prime grape variety names approved for use in designating American wines.

EFFECTIVE DATE: Effective November 4, 2002.

FOR FURTHER INFORMATION CONTACT: Jennifer Berry, Bureau of Alcohol, Tobacco and Firearms, Regulations Division, 111 W. Huron Street, Room 219, Buffalo, NY, 14202-2301; telephone (716) 434-8039.

SUPPLEMENTARY INFORMATION:

Background

Under the Federal Alcohol Administration Act (FAA Act) (27 U.S.C. 201 et seq.), wine labels must provide the consumer “with adequate information as to the identity and quality” of the product. The FAA Act also requires that the information appearing on wine labels not mislead the consumer.

To help carry out these statutory requirements, ATF has issued regulations, including those that designate grape varieties. Under 27 CFR 4.23(b) and (c), a wine bottler may use a grape variety name as the designation of a wine if not less than 75 percent of the wine (51 percent in the case of wine made from Vitis labrusca grapes) is derived from that grape variety. Under § 4.23(d), a bottler may use two or more grape variety names as the designation of a wine if all of the grapes used to make the wine are of the labeled varieties, and if the percentage of the wine derived from each grape variety is shown on the label.

In Treasury Decision ATF-370 (61 FR 522), issued on January 8, 1996, ATF adopted a list of grape variety names determined to be appropriate for use in designating American wines. The list of prime grape names and their synonyms appears at § 4.91, while alternative grape names temporarily authorized for use are listed at § 4.92. We believe the listing of approved grape variety names for American wines will help standardize wine label terminology, provide important information about the wine, and prevent consumer confusion.

How May New Varieties Be Added to the List of Prime Grape Names?

Under 27 CFR 4.93, any interested person may petition ATF to include additional grape varieties in the list of prime grape names. The petitioner should provide evidence of the following:

• Acceptance of the grape variety;

• The validity of the name for identifying the grape variety;

• That the variety is used or will be used in winemaking; and

• That the variety is grown and used in the United States.

Documentation submitted with the petition may include:

• A reference to the publication of the name of the variety in a scientific or professional journal of horticulture or a published report by a professional, scientific, or winegrowers' organization;

• A reference to a plant patent, if patented; and

• Information about the commercial potential of the variety, such as the acreage planted or market studies.

Section 4.93 also places certain eligibility restrictions on the approval of grape variety names. We will not approve a name:

• If it has previously been used for a different grape variety;

• If it contains a term or name found to be misleading under § 4.39; or

• If a name of a new grape variety contains the term “Riesling.”

The Director will not approve the name of a new grape variety developed in the United States if the name contains words of geographical significance, place names, or foreign words that are misleading under § 4.39.

Tannat Petition

Tablas Creek Vineyard in Paso Robles, California, petitioned ATF to add the name “Tannat” to the list of prime grape variety names approved for the designation of American wines. Tannat is a red varietal with origins in southwestern France and the Pyrenees Mountains.

The petitioner submitted the following published references to Tannat to establish its acceptance as a grape and the validity of its name:

• “Cépages et Vignobles de France, Volume II,” by Pierre Galet, 1990, p. 313.

• “Catalogue of Selected Wine Grape Varieties and Clones Cultivated in France,” published by the French Ministry of Agriculture, Fisheries and Food, 1997, p.151.

• “Traité General de Viticulture Ampelographie, Volume II,” by P. Viala and V. Vermoral, 1991, pp. 80-82.

• “Guide to Wine Grapes,” Oxford University Press, 1996, by Jancis Robinson, p. 182.

The first three references are scientific articles that discuss the grape's origin, cultivation, and ampelography (the study and classification of grapevines). The “Guide to Wine Grapes,” intended for the general reader, contains a general description of the grape and its uses. According to these references, the Tannat grape produces a deeply colored and tannic wine, which is thought to account for its name. They also note its use as a major component of the French wine Madiran.

Tablas Creek Vineyard imported the Tannat plant into the USDA station in Geneva, New York, in 1992. The plant was declared virus free and shipped bare-root to Tablas Creek Vineyard in Paso Robles, California, in February 1993. In 1996, the winery multiplied, grafted, and started planting Tannat vines.

The petitioner stated that the Tannat grape is currently grown and used in the United States in winemaking. Tablas Creek Vineyard reports that in 2000 and 2001, it shipped several orders for Tannat plants to vineyards in California, Arizona, and Virginia. Tannat has also long been grown in the vine collections of the University of California. At the request of the petitioner, Richard Hoenisch, Vineyard Manager, Viticulture and Enology Department, University of California at Davis, contacted ATF with information about the history of the Tannat vines in the university's collection.

According to Mr. Hoenisch, Tannat was part of the vine collection begun in the 1890s at the University of California at Berkeley by Professor Eugene Hilgard. Founder of the Department of Fruit Science, Hilgard established several experimental vineyards in California, with sites in Berkeley, Cupertino, Paso Robles, and Jackson. Mr. Hoenisch stated that the vines in the Jackson collection, including Tannat, were rediscovered in 1965 by Dr. Austin Goheen and Carl Luhn and repropagated at UC Davis. The university currently blends its Tannat wine into Cabernet Sauvignon to increase tannins, acidity, and color.

Tablas Creek states that Tannat is easy to graft and relatively vigorous, and has great commercial potential in California. It is well adapted to most California regions, ripening fairly late in the growing season, after Grenache but before Mourvédre and Cabernet Sauvignon. The petitioner reports that it has had two highly successful crops off its 0.5 acre planting. Its 1999 harvest had a brix of 28 and a pH of 3.18, while the 2000 harvest had a brix of 25 with a pH of 3.45. The petitioner states that the wine is rich, with good color, and excellent aromatics and spice. Tablas Creek further reports that the wine has done well in tastings, resulting in additional orders for Tannat plants from other vineyards and nurseries.

Notice No. 934

Based on the evidence submitted by the petitioners, ATF published Notice 934 on January 23, 2002, (67 FR 3135) proposing to add the name “Tannat” to the list of approved grape names in § 4.91. ATF received five comments in response to the notice. Four of the comments were from wineries, with the fifth from the State Enologist for Virginia, Dr. Bruce Zoecklein of Virginia Tech University. All of the commenters supported the proposed addition of the Tannat grape to the list of approved names.

After reviewing the evidence and comments, ATF determined that the petitioner provided sufficient evidence to satisfy the requirements of § 4.93. We are therefore amending the list of prime grape names in 27 CFR 4.91 to include the name “Tannat.”

Regulatory Analyses and Notices

Does the Paperwork Reduction Act Apply to This Final Rule?

The provisions of the Paperwork Reduction Act of 1995, 44 U.S.C. Chapter 35, and its implementing regulations, 5 CFR part 1320, do not apply to this rule. This rule does not require winemakers to collect or report any additional information.

How Does the Regulatory Flexibility Act Apply to This Final Rule?

We certify that this final regulation will not have a significant economic impact on a substantial number of small entities. This regulation will permit the use of a new grape varietal name. We do not expect any negative impact on small entities. We are not imposing new requirements. Accordingly, the Act does not require a regulatory flexibility analysis.

Is This a Significant Regulatory Action as Defined by Executive Order 12866?

This is not a significant regulatory action as defined by Executive Order 12866. Therefore, a regulatory assessment is not required.

Drafting Information

The principal author of this document is Jennifer Berry, Regulations Division, Bureau of Alcohol, Tobacco and Firearms.

List of Subjects in 27 CFR Part 4

Advertising, Customs duties and inspection, Imports, Labeling, Packaging and containers, Reporting and recordkeeping requirements, Trade practices, Wine.

Authority and Issuance

Accordingly, 27 CFR part 4, Labeling and Advertising of Wine, is amended as follows:

PART 4—LABELING AND ADVERTISING OF WINE

Paragraph 1. The authority citation for part 4 continues to read as follows:

Authority: 27 U.S.C. 205.

Par. 2. Section 4.91 is amended by adding the name “Tannat”, in alphabetical order, to the list of prime grape names, to read as follows:

§ 4.91 List of approved prime names.

* * * * *

Tannat

* * * * *

Signed: July 12, 2002.
Bradley A. Buckles,
Director.
Approved: August 9, 2002.
Timothy E. Skud,
Deputy Assistant Secretary, (Regulatory, Tariff, and Trade Enforcement).

[FR Doc. 02-22382 Filed 9-3-02; 8:45 am]

BILLING CODE 4810-13-P